SURFACE TRANSPORTATION BOARD

60-Day Notice of Intent To Seek Extension of Approval: Waybill Sample

AGENCY: Surface Transportation Board.

ACTION: Notice and Request for Comments.

SUMMARY: As part of its continuing effort to reduce paperwork burdens, and as required by the Paperwork Reduction Act of 1995 (PRA), the Surface Transportation Board (STB or Board) gives notice that it is requesting from the Office of Management and Budget (OMB) an extension of approval for the collection of the Waybill Sample.

DATES: Comments on this information collection should be submitted by May 22, 2017.

ADDRESSES: Direct all comments to Chris Oehrle, PRA Officer, Surface Transportation Board, 395 E Street SW., Washington, DC 20423-0001, or to PRA@stb.gov. When submitting comments, please refer to “Paperwork Reduction Act Comments, Waybill Sample.”

FOR FURTHER INFORMATION CONTACT: For further information regarding this collection, contact Michael Higgins, Deputy Director, Office of Public Assistance, Governmental Affairs, and Compliance at (202) 245-0284 or at Michael.Higgins@stb.gov. [Assistance for the hearing impaired is available through the Federal Information Relay Service (FIRS) at 1-800-877-8339.]

SUPPLEMENTARY INFORMATION: For each collection, comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Waybill Sample.

OMB Control Number: 2140-0015.

STB Form Number: None.

Type of Review: Extension with change (based on staff's estimates, the number of respondents changed from 51 to 53 and the hourly burdens for responses changed marginally).

Respondents: Any railroad that is subject to the Interstate Commerce Act and that terminated at least 4,500 revenue carloads on its lines in any of the three preceding years or that terminated at least 5% of the revenue carloads terminating in any state in any of the three preceding years. Railroads that are required to report Waybill Samples may do so either quarterly or monthly, and may either sample their own waybills or have Railinc conduct their sampling. As a result, there are four categories of Respondents discussed below: (1) Five railroads that conduct their own sampling, and report monthly, quarterly, and annually; (2) two railroads that conduct their own sampling, and report quarterly and annually; (3) two railroads that have Railinc sample their waybills, and report monthly, quarterly, and annually; and (4) 44 railroads that have Railinc sample their waybills, and report quarterly and annually.

Number of Respondents: 53.

Estimated Time per Response: Forty-two and a half hours for each of the five railroads that conduct their own sampling, and report monthly, quarterly, and annually (assuming 2.5 hours to conduct the sampling per sample submitted). Twelve and a half hours for each of the two railroads that conduct their own sampling and report quarterly and annually (assuming 2.5 hours to conduct the sampling per sample submitted). Twenty-one and one quarter hours for each of the two railroads that have Railinc sample their waybills, and report monthly, quarterly, and annually (assuming 1.25 hours per sample submitted). Six and a quarter hours for each of the 44 railroads that have Railinc sample their waybills, and report quarterly and annually (assuming 1.25 hours per sample submitted).

Frequency: Seven (7) respondents report monthly; 46 report quarterly.

Total Burden Hours (annually including all respondents): 555 hours. This estimate is made up of the annual burden hours for the (a) five railroads that conduct their own sampling, and report monthly, quarterly, and annually (85 responses × 2.5 hours = 212.50 hours), (b) two railroads that conduct their own sampling, and report quarterly and annually (10 responses × 2.5 hours = 25 hours), (c) two railroads that have Railinc sample their waybills, and report monthly, quarterly, and annually (34 responses × 1.25 hours = 42.50 hours), and (d) 44 railroads that have Railinc sample their waybills, and report quarterly and annually (220 responses × 1.25 hours = 275.00 hours).

Total “Non-hour Burden” Cost: No “non-hour cost” burdens associated with this collection have been identified.

Needs and Uses: The Surface Transportation Board is, by statute, responsible for the economic regulation of common carrier rail transportation in the United States. The information in the Waybill Sample is used by the Board, other Federal and state agencies, and industry stakeholders to monitor traffic flows and rate trends in the industry, and to develop testimony in Board proceedings. The Board has authority to collect this information under 49 U.S.C. 11144 and 11145.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: March 17, 2017.
Jeffrey Herzig,
Clearance Clerk.

[FR Doc. 2017-05713 Filed 3-21-17; 8:45 am]

BILLING CODE 4915-01-P